DEPARTMENT OF THE INTERIOR

Fish and Wildlife Service

[FWS-R9-FHC-2011-N181; 94140-1336-0000-N5]

Aquatic Nuisance Species Task Force Meeting

AGENCY: Fish and Wildlife Service, Interior.

ACTION: Notice of meeting.

SUMMARY: This notice announces a meeting of the Aquatic Nuisance Species Task Force (ANS Task Force). The ANS Task Force's purpose is to develop and implement a program for U.S. waters to prevent introduction and dispersal of aquatic nuisance species; to monitor, control and study such species; and to disseminate related information. The meeting is open to the public.

DATES: The ANS Task Force will meet from 8:30 a.m. to 5 p.m. on Wednesday, November 2, and from 8 a.m. to 3 p.m. on Thursday, November 3, 2011.

ADDRESSES: The ANS Task Force meeting will take place at the Department of Commerce Building at 1401 Constitution Avenue, NW., Washington, DC 20230. For more information about the meeting location, call 301-427-8655. You may inspect minutes of the meeting at the office of the Chief, Division of Fisheries and Aquatic Resource Conservation, U.S. Fish and Wildlife Service, 4401 North Fairfax Drive, Arlington, VA 22203, during regular business hours, Monday through Friday. You may also view the minutes on the ANS Task Force Web site at http://anstaskforce.gov/meetings.php.

FOR FURTHER INFORMATION CONTACT: Susan Mangin, Executive Secretary, ANS Task Force, by telephone at (703) 358-2466, or by e-mail at Susan_Mangin@fws.gov. If you use a telecommunications device for the deaf (TDD), please call the Federal Information Relay Service (FIRS) at 800-877-8339.

SUPPLEMENTARY INFORMATION: Pursuant to section 10(a)(2) of the Federal Advisory Committee Act (5 U.S.C. App.), this notice announces meetings of the Aquatic Nuisance Species (ANS) Task Force. The ANS Task Force was established by the Nonindigenous Aquatic Nuisance Prevention and Control Act of 1990 (Pub. L. 106-580, as amended). The ANS Task Force's purpose is to develop and implement a program for U.S. waters to prevent introduction and dispersal of aquatic nuisance species; to monitor, control and study such species; and to disseminate related information.

Agenda

Topics that the ANS Task Force plans to cover during the meeting include:

• Commercial harvest of aquatic invasive species,

• State Aquatic Nuisance Species Management Plans,

• ANSTF Strategic Plan, and

• Asian clams.

The agenda and other related meeting information are on the ANS Task Force Web site at http://anstaskforce.gov/meetings.php.

Accessibility Information

The meeting location is accessible to wheelchair users. If you require additional accommodations, please notify us at least 1 week in advance of the meeting.

Authority

We publish this notice under section 10(a)(2) of the Federal Advisory Committee Act (5 U.S.C. App.).

Dated: September 22, 2011.
Jeffrey Underwood,
Acting Co-Chair, Aquatic Nuisance Species Task Force, Acting Assistant Director—Fisheries and Habitat Conservation.

[FR Doc. 2011-25144 Filed 9-29-11; 8:45 am]

BILLING CODE 4310-55-P